DEPARTMENT OF THE INTERIOR

Bureau of Land Management

Fish and Wildlife Service

[BLM_UT_FRN_MO4500183475]

Notice of Availability of the Final Supplemental Environmental Impact Statement To Reconsider a Highway Right-of-Way Application and Associated Amendment of an Incidental Take Permit, Washington County, UT

AGENCY: Bureau of Land Management, Fish and Wildlife Service, Interior.

ACTION: Notice of availability.

SUMMARY: In compliance with the National Environmental Policy Act of 1969, as amended (NEPA), the Federal Land Policy and Management Act of 1976, as amended (FLPMA), and the Endangered Species Act of 1973, as amended (ESA), the Bureau of Land Management (BLM) and the Fish and Wildlife Service (FWS), as co-lead agencies, announce the availability of the Final Supplemental Environmental Impact Statement (EIS) to further consider the effects of granting a right-of-way (ROW) to the Utah Department of Transportation (UDOT) for the Northern Corridor Project (a proposed highway) as well as a potential amendment to the Incidental Take Permit (ITP) issued to Washington County, Utah, under the ESA.

DATES: The BLM and FWS will not issue decisions on the proposal for a minimum of 30 days after the date the Environmental Protection Agency (EPA) publishes its Notice of Availability (NOA) for the Final Supplemental EIS DOI-BLM-UT-C030-2023-0038-EIS in the Federal Register. The EPA usually publishes its NOAs on Fridays.

ADDRESSES: The Final Supplemental EIS and documents pertinent to this proposal are available for review on the BLM ePlanning project website at https://eplanning.blm.gov/eplanning-ui/project/2026562/510. Click the Documents link on the left side of the screen to find the electronic versions of these materials.

FOR FURTHER INFORMATION CONTACT: Dawna Ferris-Rowley, National Conservation Area (NCA) Manager, Red Cliffs and Beaver Dam Wash NCAs, telephone (435) 688-3200; address 345 East Riverside Drive, St. George, UT 84790; email BLM_UT_NorthernCorridor@blm.gov. Individuals in the United States who are deaf, deafblind, hard of hearing, or have a speech disability may dial 711 (TTY, TDD, or TeleBraille) to access telecommunications relay services for contacting Ms. Ferris-Rowley. Individuals outside the United States should use the relay services offered within their country to make international calls to the point-of-contact in the United States. Replies are provided during normal business hours. If you would like to request to view a hard copy, please call the St. George Field Office for more information at (435) 688-3200, 8 a.m. to 4:30 p.m., Monday through Friday, except holidays.

SUPPLEMENTARY INFORMATION: The BLM and FWS are issuing this NOA pursuant to NEPA, 42 U.S.C. 4321 et seq.; the Council on Environmental Quality's regulations for implementing NEPA, 40 CFR parts 1500 through1508 (as amended on May 20, 2022, 87 FR 23453); and the Department of the Interior's NEPA regulations, 43 CFR part 46.

The Final Supplemental EIS has been prepared to supplement the analysis contained in the 2020 Final EIS by BLM and FWS (the entire Final EIS can be found at: https://eplanning.blm.gov/eplanning-ui/project/1502103/570).

On September 4, 2018, UDOT applied for a ROW grant for the Northern Corridor project north of the City of St. George, Utah, on BLM-managed and non-Federal lands within the Red Cliffs NCA and the Red Cliffs Desert Reserve. The Red Cliffs NCA was established through the passage of the Omnibus Public Land Management Act of 2009 (16 U.S.C. 460www). Prior to the NCA's designation, the Red Cliffs Desert Reserve was established for the protection of the Mojave desert tortoise as part of the 1995 Washington County Habitat Conservation Plan (HCP). In 2015, pursuant to section 10(a)(1)(B) of the ESA, Washington County applied to renew and amend the HCP and associated ITP. The restated and amended HCP described the Northern Corridor highway as a potential changed circumstance, which would be partially offset with the addition of a new sixth zone to the Red Cliffs Desert Reserve (Reserve Zone 6) as the primary conservation strategy. To consider the application and the proposed Zone 6, the BLM needed to also consider amending the St. George Field Office and Red Cliffs NCA Resource Management Plans (RMPs).

During 2019 and 2020, in accordance with NEPA, the BLM and FWS prepared an EIS to analyze the environmental impacts associated with the proposed actions and reasonable alternatives. The BLM also consulted with the FWS to meet the requirements in section 7(a)(2) of the ESA. The FWS issued a biological opinion to the BLM that determined the ROW and the amendments to the RMPs were not likely to jeopardize the continued existence of the Mojave desert tortoise or destroy or adversely modify designated critical habitat for the Mojave desert tortoise. In addition, the FWS also issued an intra-agency biological opinion that determined the ITP is not likely to jeopardize the continued existence of the Mojave desert tortoise, Holmgren milkvetch, Shivwits milkvetch, dwarf bear-poppy, Siler pincushion cactus, Gierisch mallow, and Fickeisen plains cactus or result in the adverse modification of critical habitat for any of the above-listed species.

On January 13, 2021, the Secretary of the Interior signed a Record of Decision that approved the Northern Corridor ROW application and approved the amendments to the RMPs. The decision approving the ROW was effective immediately. The BLM then signed and issued the ROW grant to UDOT on the same day. Also on January 13, 2021, the FWS Regional Director for Interior Regions 5 and 7 signed a Record of Decision approving the issuance of an ITP to Washington County. The FWS issued the ITP to Washington County on January 13, 2021. Because the BLM approved the UDOT ROW application, the changed circumstance was triggered, and Zone 6 was formally added to the Reserve.

On June 3, 2021, seven conservation organizations (collectively, Plaintiffs) filed an initial complaint in the United States District Court for the District of Columbia, Case No. 1:21-cv-01506. Among other claims, plaintiffs alleged the BLM's ROW decision violated both NEPA and the National Historic Preservation Act (NHPA). The Plaintiffs stated, in part, the Final EIS did not fully address the changed circumstances of wildfire in the region and the impacts it may have on the Mojave desert tortoise, desert tortoise habitat, and the spread of invasive annual grasses. The Plaintiffs also alleged that the BLM failed to comply with the consultation requirements under section 106 of the NHPA. On July 27, 2021, Plaintiffs amended their complaint to include the FWS and additional claims related to NEPA and the ESA.

During the litigation, the United States and plaintiffs reached a settlement agreement that was signed on August 30, 2023. Prior to executing that agreement, the United States moved for the remand and partial vacatur of the BLM's and FWS's 2021 decisions. In the motion, the United States acknowledged the BLM did not comply with the NHPA and the agencies had substantial and legitimate concerns that the Final EIS may lack sufficient analysis of certain resource effects, including the effects of the construction and use of the Northern Corridor project in the context of the protection of the values for which the NCA was created and the following: (1) the trend in the increasing frequency and extent of wildfires in the Mojave Desert; (2) the rise of non-native/exotic and invasive vegetation in post-burn areas; and (3) the impacts increased fire and new non-native/exotic and invasive vegetation have on desert tortoise. On November 16, 2023, the court issued an Order that granted the remand of all decisions associated with the January 2021 Records of Decision issued by the BLM and FWS and denied the BLM's request to vacate the ROW grant issued to UDOT in January 2021. On March 8, 2024, at the request of the BLM and pursuant to paragraph 3(c) of the Settlement Agreement, the FWS withdrew the Biological Opinion for the Northern Corridor ROW grant.

Purpose and Need for the Proposed Action

The BLM's purpose and need for this action is to determine whether the BLM will affirm, affirm with modifications, or terminate the 2021 UDOT ROW grant. The FWS's purpose and need for action is to consider whether to amend Washington County's ITP so that it reflects the BLM's reconsideration of UDOT's ROW.

Proposed Action and Alternatives

The Final Supplemental EIS considers six alternatives, five of which include a specific ROW alignment and a sixth that includes termination of the ROW. All of the alternatives identify the corresponding action required of the FWS regarding the Washington County ITP. The six alternatives analyzed in detail in the Final Supplemental EIS are similar to those included in the Final EIS published in November 2020. No new highway alignments that meet UDOT's stated purpose and need for the Northern Corridor highway were identified by the public during the scoping period for the Supplemental EIS or during the public comment period on the Draft Supplemental EIS.

• UDOT ROW Alignment alternative (No Action, or No Change): the BLM would affirm the ROW grant issued to UDOT in 2021, which follows an alignment that is approximately 4.5 miles long, 1.9 miles of which would be across BLM-managed lands. In this case, the FWS would affirm Washington County's ITP. The changed circumstance related to the construction of the Northern Corridor across the Reserve described in the HCP remains triggered, and Zone 6 of the Reserve would remain.

• T-Bone Mesa Alignment alternative: the BLM would modify UDOT's ROW grant across public lands in the NCA. This alignment would connect Green Springs Drive on the east to Red Hills Parkway on the west just north of the Pioneer Hills trailhead parking area. Under this alternative, the Northern Corridor would skirt the southern edge of T-Bone Mesa. The Northern Corridor would be approximately 4.2 miles long, 2.2 miles of which would be across BLM-administered lands. In this case, the FWS would affirm Washington County's ITP. The changed circumstance related to the construction of the Northern Corridor across the Reserve described in the HCP remains triggered, and Zone 6 of the Reserve would remain.

• Southern Alignment alternative: the BLM would modify UDOT's ROW grant across public lands in the NCA. This alignment would nearly skirt the southern border of the NCA, connecting Green Springs Drive on the east to Red Hills Parkway on the west just south of, and slightly encroaching onto, the Pioneer Hills trailhead parking area. The Northern Corridor would be approximately 5.5 miles long, approximately 1.5 miles of which would be across BLM-administered lands. In this case, the FWS would affirm Washington County's ITP. The changed circumstance related to the construction of the Northern Corridor across the Reserve described in the HCP remains triggered, and Zone 6 of the Reserve would remain.

• Red Hills Parkway Expressway alternative: UDOT would no longer hold the ROW grant. This alternative proposes changes to the existing Red Hills Parkway so that it would function as an expressway between I-15 and Bluff Street. The BLM may need to grant necessary amendments to the City of St. George's existing FLPMA Title V ROW for the Red Hills Parkway. Under this alternative, the FWS would amend Washington County's ITP because the Northern Corridor changed circumstance would not occur, thus eliminating Zone 6 as mitigation for the Northern Corridor Highway.

• St. George Boulevard/100 South One-Way Couplet alternative: UDOT would no longer hold the ROW grant. This alternative would include modifications to St. George Boulevard and 100 South to convert the two roadways into a one-way couplet system between I-15 and Bluff Street, wherein St. George Boulevard would only accommodate westbound traffic and 100 South would only accommodate eastbound traffic. While this alternative meets the purpose and need of the project, it would have to be implemented by the City of St. George because it does not cross any BLM-administered lands. Under this alternative, the FWS would amend Washington County's ITP because the Northern Corridor changed circumstance would not occur, thus eliminating Zone 6 as mitigation for the Northern Corridor Highway.

• Terminate UDOT's ROW alternative: UDOT would no longer hold the ROW grant for the Northern Corridor. Under this alternative, the FWS would amend Washington County's ITP because the Northern Corridor changed circumstance would not occur, thus eliminating Zone 6 as mitigation for the Northern Corridor Highway. This alternative represents an equivalency with the No Action Alternative in the 2020 Final EIS.

Under the Red Hills Parkway Expressway, St. George Boulevard/100 South One-Way Couplet, and Terminate UDOT's ROW alternatives, the 6,812-acre mitigation area in the southwest area of St. George, known as Reserve Zone 6, would be removed from the Red Cliffs Desert Reserve. However, the 3,471 acres managed by the BLM within Zone 6 would continue to be managed with the protections put in place under the 2021 St. George Field Office RMP amendment. The remaining 3,341 acres of land, which are either privately owned or managed by the Utah Trust Lands Administration, would no longer be afforded special protections by Washington County and could be developed under the amended ITP.

The Final Supplemental EIS does not reconsider any amendments to the BLM's RMPs or to Washington County's amended HCP.

The BLM, in coordination with the FWS, identified the Red Hills Parkway Expressway as the BLM's preferred alternative. Based on this selection, Reserve Zone 6 would be removed from the Red Cliffs Desert Reserve. The FWS's preferred alternative is to amend Washington County's ITP to authorize incidental take of the Mojave desert tortoise associated with the implementation of covered activities that could occur on 3,341 acres of non-Federal lands in the previous Reserve Zone 6. Identification of these alternatives does not represent final agency decisions.

Public Involvement Process

A 30-day public scoping period was initiated with the publication of a Notice of Intent in the Federal Register on November 16, 2023 (88 FRN 78781), and was extended at the request of Washington County and the State of Utah until December 28, 2023. The scoping period included a public open house held in St. George, Utah, on December 6, 2023, with over 200 attendees. A total of 8,993 comment submissions were received, of which 8,145 were form letters, 793 were unique comments, and 55 did not include a comment or were comments not relevant to scoping. The BLM and FWS considered all comments received during the scoping period in preparation of the Draft Supplemental EIS. A scoping report is available for public review on the BLM ePlanning project website (see ADDRESSES).

A Notice of Availability for the Draft Supplemental EIS was published in the Federal Register on May 10, 2024, (89 FRN 40504) initiating a 45-day public review and comment period. In addition, the BLM issued media releases and sent notifications via email to cooperating agencies, Tribal Nations, and the updated project mailing list. The BLM and FWS held an in-person public open house on June 4, 2024, at the Dixie Convention Center in St. George, Utah, during the public comment period. The BLM and FWS announced the date and time for this meeting at least 15 days prior to the event, through media releases and posting on the BLM ePlanning project website (see ADDRESSES).

Agencies, organizations, and individual stakeholders were able to submit comments through the U.S. Postal Service and the BLM ePlanning project website (see ADDRESSES). The comment period was extended until July 9, 2024, after an updated Traffic Analysis Memorandum, prepared by the Dixie Metropolitan Planning Organization, and an Assessment, Inventory, and Monitoring Vegetation Survey Technical Report were made available for public review on the BLM ePlanning project website. The BLM and FWS announced the availability of these documents, and the date of the extended public review and comment period, through social media releases, a posting on the BLM ePlanning project website, and email messages to the project mailing list.

A total of 4,255 comment submissions were received during the 60-day public comment period, of which 3,354 were part of organized letter writing campaigns and 901 were unique comment submissions. The BLM and FWS considered all comments received during the extended comment period in the preparation of the Final Supplemental EIS.

Substantive public comments and ongoing agency coordination led to several changes from the Draft Supplemental EIS. Additional data became available after publication of the Draft Supplemental EIS that is incorporated into the analysis in the Final Supplemental EIS, including vegetation Assessment, Inventory, and Monitoring data for the three ROW alternatives in the NCA, corrected boundaries for two Land and Water Conservation Fund-acquired parcels, updated traffic modeling results for each ROW alternative, and the identification of additional environmental justice concerns, primarily for the ROW alternatives that would reconfigure existing roadways. The BLM and FWS responded to substantive comments and made appropriate revisions in the Final Supplemental EIS or explained why a comment did not warrant a change, as documented in Appendix F of the Final Supplemental EIS.

Lead and Cooperating Agencies

The BLM and FWS are co-lead agencies. Cooperating agencies are the State of Utah Public Lands Policy Coordinating Office, State of Utah Department of Environmental Quality, State of Utah Trust Lands Administration, Washington City, Dixie Metropolitan Planning Organization, City of St. George, City of Ivins, Santa Clara City, City of Hurricane, the Paiute Indian Tribe of Utah, and the Shivwits Band of the Paiute Indian Tribe of Utah.

Additional Information

The BLM is using the NEPA process to comply with section 106 of the NHPA (54 U.S.C. 306108) as provided in 36 CFR 800.2(d)(3), including the public involvement requirements of section 106. Information about historic and cultural resources within the area potentially affected by the proposed project has been included in the Final Supplemental EIS. The BLM, in consultation with the Utah State Historic Preservation Office (SHPO) and consulting parties, initially began developing a Memorandum of Agreement to resolve adverse effects to historic properties. Based on ongoing consultation with the SHPO, the BLM determined that a Programmatic Agreement—rather than a Memorandum of Agreement—is more appropriate to document its compliance with section 106 because of the uncertainties associated with non-Federal lands within Zone 6, which may lose their enhanced protections and become subject to future development and other activities that could result in subsequent adverse effects to historic properties. The BLM will develop, sign, and implement a programmatic agreement in accordance with 36 CFR 800.14(b) to serve as the binding commitment to resolve adverse effects to historic properties on Federal lands. The programmatic agreement will lay out the framework that the BLM, UDOT, Tribes, and other signatories to the agreement will use to fund, develop, and implement a Historic Properties Treatment Plan for historic properties that may be adversely affected by project-related actions.

The BLM and FWS will continue to consult with Tribal Nations on a government-to-government basis in accordance with Executive Order 13175, BLM Manual Section 1780, and other Departmental policies. Tribal concerns, including impacts on Indian trust assets and potential impacts to cultural resources, will be given due consideration.

Matthew A. Preston,
Acting State Director.
Anna Munoz,
Deputy Regional Director.

[FR Doc. 2024-25903 Filed 11-7-24; 8:45 am]

BILLING CODE 4331-25-P